DEPARTMENT OF JUSTICE

Antitrust Division

Notice Pursuant to the National Cooperative Research and Production Act of 1993—Institute of Electrical and Electronics Engineers

Notice is hereby given that, on August 4, 2020, pursuant to Section 6(a) of the National Cooperative Research and Production Act of 1993, 15 U.S.C. 4301 et seq. (“the Act”), the Institute of Electrical and Electronics Engineers (“IEEE”) has filed written notifications simultaneously with the Attorney General and the Federal Trade Commission disclosing additions or changes to its standards development activities. The notifications were filed for the purpose of extending the Act's provisions limiting the recovery of antitrust plaintiffs to actual damages under specified circumstances. Specifically, 49 new standards have been initiated and 9 existing standards are being revised. More detail regarding these changes can be found at: https://standards.ieee.org/about/sasb/sba/june2020.html.

On February 8, 2015, the IEEE Board of Directors approved an update of the IEEE patent policy for standards development, which became effective on 15 March 2015. The updated policy is available at http://standards.ieee.org/develop/policies/bylaws/approved-changes.pdf and, from the effective date, will be available at http://standards.ieee.org/develop/policies/bylaws/sect6-7.html.

On September 17, 2004, IEEE filed its original notification pursuant to Section 6(a) of the Act. The Department of Justice published a notice in the Federal Register pursuant to Section 6(b) of the Act on November 3, 2004 (69 FR 64105).

The last notification was filed with the Department on May 27, 2020. A notice was published in the Federal Register pursuant to Section 6(b) of the Act on June 26, 2020 (85 FR 38391).

Suzanne Morris,
Chief, Premerger and Division Statistics, Antitrust Division, Department of Justice.

[FR Doc. 2020-18982 Filed 8-27-20; 8:45 am]

BILLING CODE 4410-11-P